Proclamation 10813 of September 16, 2024

National Voter Registration Day, 2024

By the President of the United States of America

A Proclamation

American democracy begins and ends with the ballot box—putting the right to vote and the right to decide our Nation's future in the hands of “We the People.” Voting defines our threshold of liberty and makes everything possible. On National Voter Registration Day, we recommit to protecting the sacred right to vote, and we encourage every eligible American to register to vote.

Today, there are forces trying to take us back in time. They are trying to suppress voters and subvert elections. They are supporting unlimited dark money and extreme gerrymandering to try to influence the election system in their favor. We saw it on January 6, 2021, when a violent mob of insurrectionists and election deniers breached the Capitol. It is a solemn reminder that the work to secure our democracy and protect our fundamental rights and freedoms is not over in this country. Each generation must join the work to preserve our democratic values and norms.

That is why, when I came into office, I was determined to secure the right to vote and the right to have every vote counted. I signed an Executive Order that directed the entire Federal Government to work on promoting non-partisan access to voter registration and election information. So far, Federal agencies have worked to make voter registration more accessible for veterans and college students. The Department of Justice has doubled its voting rights enforcement staff. United States Citizenship and Immigration Services has worked to ensure that all newly naturalized citizens understand the privilege of voting and have the opportunity to register. And the Department of the Interior is working to increase Indigenous peoples' access to voter registration. Furthermore, Vice President Kamala Harris declared National Voter Registration Day to be one of three National Days of Action on Voting Rights, calling on all Americans, regardless of political affiliation, to come together to encourage voter registration. This year, one of my guests at the State of the Union was one of the brave Americans who marched in Selma, Alabama, nearly 60 years ago on “Bloody Sunday.” Thanks to these activists who fought tirelessly for the right to vote—from Seneca Falls, New York, to Selma, Alabama—the 19th Amendment was ratified and the Voting Rights Act was signed into law. But to fully secure the right to vote in every State, the Congress must take action and pass the Freedom to Vote Act and the John Lewis Voting Rights Advancement Act.

Today, I am thinking of a quote from Benjamin Franklin. When he was asked if the Founding Fathers had given America a monarchy or a republic, he responded, “A republic, if you can keep it.” On National Voter Registration Day, we are reminded that our republic is in our hands and it is incumbent upon us to maintain it. It is in that spirit that we encourage every eligible American to ensure they are registered to vote. You can verify that your registration is accurate and up to date and offer to help your neighbors do the same. For more information, visit Vote.gov.

NOW, THEREFORE, I, JOSEPH R. BIDEN JR., President of the United States of America, by virtue of the authority vested in me by the Constitution and laws of the United States, do hereby proclaim September 17, 2024, as National Voter Registration Day. I call on all eligible Americans to observe this day by ensuring that they are accurately registered and by committing to cast a ballot in upcoming elections.

IN WITNESS WHEREOF, I have hereunto set my hand this sixteenth day of September, in the year of our Lord two thousand twenty-four, and of the Independence of the United States of America the two hundred and forty-ninth.

[FR Doc. 2024-21566

Filed 9-18-24; 8:45 am]

Billing code 3395-F4-P